DEPARTMENT OF ENERGY

Federal Energy Regulatory Commission

[Project No. 15045-002]

Current Hydro Project 19, LLC; Notice of Reasonable Period of Time for Water Quality Certification Application

On November 24, 2025, Current Hydro Project 19, LLC (Current Hydro) submitted to the Federal Energy Regulatory Commission (Commission) documentation from the West Virginia Department of Environmental Protection (West Virginia DEP) that it received a request for a Clean Water Act section 401(a)(1) water quality certification as defined in 40 CFR 121.5, from Current Hydro, in conjunction with the above captioned project on October 21, 2025. Pursuant to the Commission's regulations,¹ we hereby notify West Virginia DEP of the following dates.

¹ 18 CFR 4.34(b)(5)(iii).

Date of Receipt of the Certification Request: October 21, 2025.

Reasonable Period of Time to Act on the Certification Request: One year, October 21, 2026.

If West Virginia DEP fails or refuses to act on the water quality certification request on or before the above date, then the certifying authority is deemed waived pursuant to section 401(a)(1) of the Clean Water Act, 33 U.S.C. 1341(a)(1).

(Authority: 18 CFR 2.1)

Dated: November 25, 2025.
Debbie-Anne A. Reese,
Secretary.

[FR Doc. 2025-21706 Filed 11-28-25; 8:45 am]

BILLING CODE 6717-01-P